DEPARTMENT OF COMMERCE

Foreign-Trade Zones Board

[ Docket 52-2004]

Foreign-Trade Zone 141—Monroe County, NY; Application for Expansion

An application has been submitted to the Foreign-Trade Zones Board (the Board) by the County of Monroe, New York, grantee of FTZ 141, requesting authority to expand FTZ 141, in Monroe County, New York, within the Rochester Customs port of entry. The application was submitted pursuant to the provisions of the Foreign-Trade Zones Act, as amended (19 U.S.C. 81a-81u), and the regulations of the Board (15 CFR part 400). It was formally filed on November 17, 2004.

FTZ 141 was approved on April 2, 1987 (Board Order 355, 52 FR 12219, 4/15/87). The zone project currently consists of the following sites in the Monroe County, New York area: Site 1 (10 acres)—401 Pixley Road, Gates; Site 2 (8 acres)—39 Breck Street, Rochester; Site 3 (14 acres)—10 Carriage Street, Honoeye Falls; Site 4 (38 acres)—200 Carlson Road, Rochester; Site 5 (5 acres)—655-C Basket Road, Webster; Site 6 (5 acres)—111 Commerce Drive, Henrietta; Site 7 (3 acres)—10 Thruway Park Drive, Henrietta; Site 8 (2.2 acres)—1698 Lyell Avenue, Rochester; Site 9 (1 acre)—847 West Avenue, Building #10, Rochester; Site 10 (2 acres)—3025 Winton Road South, Rochester.

The applicant is requesting authority to expand the zone to include one additional site in Rochester: Proposed Site 11 (314 acres)—Rochester Technology Park, 789 Elmgrove Road, Rochester. The site is principally owned by Cohen Asset Management, Inc., and Continental Industrial Capital LLC. The new site is part of the former Site 4 (Elmgrove facility) subzone manufacturing site of FTZ 141A, Eastman Kodak Company, which is being converted to general industrial use. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building—Suite 4100W, 1099 14th Street, NW., Washington, DC 20005; or

2. Submissions via U.S. Postal Service: Foreign-Trade Zones Board, U.S. Department of Commerce, FCB-4100W, 1401 Constitution Ave., NW., Washington, DC 20230.

The closing period for their receipt is January 24, 2005. Rebuttal comments in response to material submitted during the foregoing period may be submitted during the subsequent 15-day period (to February 7, 2005).

A copy of the application will be available for public inspection at the Office of the Foreign-Trade Zones Board's Executive Secretary at address No. 1 listed above and at the Office of the County Executive, Suite 8100, 39 West Main Street, Rochester, New York 14614.

Dennis Puccinelli,
Executive Secretary.

[FR Doc. 04-25957 Filed 11-22-04; 8:45 am]

BILLING CODE 3510-DS-P